COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds product(s) to the Procurement List that will be furnished by nonprofit agencies employing persons who are blind or have other severe disabilities.

DATES: Date added to the Procurement List: November 22, 2020.

ADDRESSES: Committee for Purchase From People Who Are Blind or Severely Disabled, 1401 S Clark Street, Suite 715, Arlington, Virginia 22202-4149.

FOR FURTHER INFORMATION CONTACT: Michael R. Jurkowski, Telephone: (703) 603-2117, or email CMTEFedReg@AbilityOne.gov.

SUPPLEMENTARY INFORMATION:

Additions

On 9/6/2019, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the product(s) and impact of the additions on the current or most recent contractors, the Committee has determined that the product(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) to the Government.

2. The action will result in authorizing small entities to furnish the product(s)) to the Government.

3. There are no known regulatory alternatives which would accomplish the objectives of the Javits-Wagner-O'Day Act (41 U.S.C. 8501-8506) in connection with the product(s) proposed for addition to the Procurement List.

End of Certification

Accordingly, the following product(s) are added to the Procurement List:

Product(s)

NSN(s)—Product Name(s):

Coat, Dress, Army Green Service Uniform, Men's, Athletic Fit, Heritage Green 8405-01-683-0663—Size 40-L; 8405-01-683-0646—Size 40-R; 8405-01-683-0668—Size 40-XL; 8405-01-683-0674—Size 41-L; 8405-01-683-0672—Size 41-R; 8405-01-683-0676—Size 41-XL; 8405-01-683-0681—Size 42-L; 8405-01-683-0690—Size 42-R; 8405-01-683-0682—Size 42-XL; 8405-01-683-0684—Size 43-L; 8405-01-683-0683—Size 43-R; 8405-01-683-0686—Size 43-XL; 8405-01-683-0693—Size 44-L; 8405-01-683-0692—Size 44-R; 8405-01-683-0696—Size 44-XL; 8405-01-683-0704—Size 45-L; 8405-01-683-0703—Size 45-R; 8405-01-683-0710—Size 45-XL; 8405-01-683-0718—Size 46-L; 8405-01-683-0715—Size 46-R; 8405-01-683-0726—Size 46-XL; 8405-01-683-0730—Size 47-L; 8405-01-683-0728—Size 47-R; 8405-01-683-0729—Size 47-XL; 8405-01-683-0733—Size 48-L; 8405-01-683-0732—Size 48-R; 8405-01-683-0735—Size 48-XL; 8405-01-683-0824—Size 49-L; 8405-01-683-0736—Size 49-R; 8405-01-683-0825—Size 49-XL; 8405-01-683-0828—Size 50-L; 8405-01-683-0827—Size 50-R; 8405-01-683-0829—Size 50-XL; 8405-01-683-0834—Size 51-L; 8405-01-683-0831—Size 51-R; 8405-01-683-0836—Size 51-XL; 8405-01-683-0839—Size 52-L; 8405-01-683-0838—Size 52-R; 8405-01-683-0837—Size 52-XL; 8405-01-685-3364—Size 53-L; 8405-01-685-3362—Size 53-R; 8405-01-685-3365—Size 53-XL; 8405-01-683-0841—Size 54-L; 8405-01-683-0840—Size 54-R; 8405-01-683-0842—Size 54-XL

Coat, Dress, Army Green Service Uniform, Men's, Classic Fit, Heritage Green 8405-01-683-0111—Size 34-S; 8405-01-683-0368—Size 35-L; 8405-01-683-0355—Size 35-S; 8405-01-683-0319—Size 36-S; 8405-01-683-0356—Size 37-S; 8405-01-683-0254—Size 38-S; 8405-01-683-0243—Size 39-S; 8405-01-683-0334—Size 40-S; 8405-01-683-0320—Size 40-XL; 8405-01-683-0225—Size 41-S; 8405-01-683-0229—Size 41-XL; 8405-01-683-0230—Size 42-S; 8405-01-683-0302—Size 42-XL; 8405-01-683-0263—Size 43-S; 8405-01-683-0881—Size 44-S; 8405-01-683-0895—Size 45-R; 8405-01-683-0906—Size 46-L; 8405-01-683-0904—Size 46-R; 8405-01-683-0908—Size 46-XL; 8405-01-683-0695—Size 30-R; 8405-01-683-0712—Size 31-R; 8405-01-683-0309—Size 32-R; 8405-01-685-2484—Size 33-L; 8405-01-683-0089—Size 33-R; 8405-01-683-0259—Size 34-L; 8405-01-683-0304—Size 34-R; 8405-01-683-0364—Size 34-XS; 8405-01-683-0315—Size 35-R; 8405-01-683-0352—Size 35-XL; 8405-01-683-0353—Size 35-XS; 8405-01-683-0344—Size 36-L; 8405-01-683-0371—Size 36-R; 8405-01-683-0366—Size 36-XL; 8405-01-683-0224—Size 36-XS; 8405-01-683-0261—Size 37-L; 8405-01-683-0349—Size 37-R; 8405-01-683-0369—Size 37-XL; 8405-01-683-0362—Size 37-XS; 8405-01-683-0266—Size 38-L; 8405-01-683-0239—Size 38-R; 8405-01-683-0241—Size 38-XL; 8405-01-683-0339—Size 38-XS; 8405-01-683-0247—Size 39-L; 8405-01-683-0237—Size 39-R; 8405-01-683-0258—Size 39-XL; 8405-01-683-0299—Size 39-XS; 8405-01-683-0330—Size 40-L; 8405-01-683-0269—Size 40-R; 8405-01-683-0249—Size 40-XS; 8405-01-683-0325—Size 41-L; 8405-01-683-0231—Size 41-R; 8405-01-683-0336—Size 41-XS; 8405-01-683-0112—Size 42-L; 8405-01-683-0236—Size 42-R; 8405-01-683-0250—Size 42-XS; 8405-01-683-0297—Size 43-L; 8405-01-683-0252—Size 43-R; 8405-01-683-0328—Size 43-XL; 8405-01-683-0731—Size 43-XS; 8405-01-683-0883—Size 44-L; 8405-01-683-0882—Size 44-R; 8405-01-683-0891—Size 44-XL; 8405-01-683-0880—Size 44-XS; 8405-01-683-0896—Size 45-L; 8405-01-683-0894—Size 45-S; 8405-01-683-0897—Size 45-XL; 8405-01-683-0893—Size 45-XS; 8405-01-683-0902—Size 46-S; 8405-01-683-0900—Size 46-XS; 8405-01-683-0926—Size 47-L; 8405-01-683-0924—Size 47-R; 8405-01-683-0914—Size 47-S; 8405-01-683-0927—Size 47-XL; 8405-01-683-0911—Size 47-XS; 8405-01-683-0934—Size 48-L; 8405-01-683-0931—Size 48-R; 8405-01-683-0930—Size 48-S; 8405-01-683-0935—Size 48-XL; 8405-01-683-0929—Size 48-XS; 8405-01-683-0943—Size 49-L; 8405-01-683-0942—Size 49-R; 8405-01-683-0937—Size 49-S; 8405-01-683-0945—Size 49-XL; 8405-01-683-0936—Size 49-XS; 8405-01-683-0951—Size 50-L; 8405-01-683-0950—Size 50-R; 8405-01-683-0947—Size 50-S; 8405-01-683-0956—Size 50-XL; 8405-01-683-0946—Size 50-XS; 8405-01-683-0963—Size 51-L; 8405-01-683-0962—Size 51-R; 8405-01-683-0959—Size 51-S; 8405-01-683-0964—Size 51-XL; 8405-01-683-0957—Size 51-XS; 8405-01-683-0996—Size 52-L; 8405-01-683-0995—Size 52-R; 8405-01-683-0993—Size 52-S; 8405-01-683-0998—Size 52-XL; 8405-01-683-0966—Size 52-XS; 8405-01-685-2482—Size 53-L; 8405-01-685-2481—Size 53-R; 8405-01-685-2476—Size 53-S; 8405-01-685-2483—Size 53-XL; 8405-01-683-1051—Size 54-L; 8405-01-683-1040—Size 54-R; 8405-01-683-1010—Size 54-S; 8405-01-683-1053—Size 54-XL; 8405-01-683-1002—Size 54-XS

Coat, Dress, Army Green Service Uniform, Women's, Heritage Green 8410-01-683-1948—Size 10-JR-P; 8410-01-683-1949—Size 10-JR-R; 8410-01-683-1952—Size 10-JR-T; 8410-01-683-1996—Size 10-M-P; 8410-01-683-1999—Size 10-M-R; 8410-01-683-2001—Size 10-M-T; 8410-01-683-2099—Size 10-W-P; 8410-01-683-2103—Size 10-W-R; 8410-01-683-2104—Size 10-W-T; 8410-01-683-1951—Size 12-JR-P; 8410-01-683-1953—Size 12-JR-R; 8410-01-683-1955—Size 12-JR-T; 8410-01-683-1957—Size 12-JR-XT; 8410-01-683-2003—Size 12-M-P; 8410-01-683-2005—Size 12-M-R; 8410-01-683-2006—Size 12-M-T; 8410-01-683-2105—Size 12-W-P; 8410-01-683-2106—Size 12-W-R; 8410-01-683-2108—Size 12-W-T; 8410-01-683-2121—Size 12-W-XT; 8410-01-683-1959—Size 14-JR-P; 8410-01-683-1960—Size 14-JR-R; 8410-01-683-1965—Size 14-JR-T; 8410-01-683-1964—Size 14-JR-XT; 8410-01-683-2007—Size 14-M-P; 8410-01-683-2009—Size 14-M-R; 8410-01-683-2008—Size 14-M-T; 8410-01-683-2114—Size 14-W-P; 8410-01-683-2115—Size 14-W-R; 8410-01-683-2119—Size 14-W-T; 8410-01-683-2118—Size 14-W-XT; 8410-01-683-1967—Size 16-JR-P; 8410-01-683-1968—Size 16-JR-R; 8410-01-683-1969—Size 16-JR-T; 8410-01-683-1970—Size 16-JR-XT; 8410-01-683-2010—Size 16-M-P; 8410-01-683-2011—Size 16-M-R; 8410-01-683-2012—Size 16-M-T; 8410-01-683-2024—Size 16-M-XT; 8410-01-683-2122—Size 16-W-P; 8410-01-683-2125—Size 16-W-R; 8410-01-683-2127—Size 16-W-T; 8410-01-683-2128—Size 16-W-XT; 8410-01-683-1971—Size 18-JR-R; 8410-01-683-2025—Size 18-M-R; 8410-01-683-2026—Size 18-M-T; 8410-01-683-2027—Size 18-M-XT; 8410-01-683-2129—Size 18-W-R; 8410-01-683-2130—Size 18-W-T; 8410-01-683-2131—Size 18-W-XT; 8410-01-683-1972—Size 20-JR-R; 8410-01-683-2029—Size 20-M-R; 8410-01-683-2046—Size 20-M-T; 8410-01-683-2047—Size 20-M-XT; 8410-01-683-2132—Size 20-W-R; 8410-01-683-2133—Size 20-W-T; 8410-01-683-1983—Size 22-JR-R; 8410-01-683-2048—Size 22-M-R; 8410-01-683-2052—Size 22-M-T; 8410-01-683-2135—Size 22-W-R; 8410-01-683-2134—Size 22-W-T; 8410-01-683-2054—Size 24-M-R; 8410-01-683-2057—Size 24-M-T; 8410-01-683-2144—Size 24-W-T; 8410-01-683-2056—Size 26-M-R; 8410-01-683-2059—Size 26-M-T; 8410-01-683-2137—Size 26-W-T; 8410-01-683-1945—Size 4-JR-P; 8410-01-683-1985—Size 4-M-P; 8410-01-683-1986—Size 4-M-R; 8410-01-683-2060—Size 4-W-P; 8410-01-683-1946—Size 6-JR-P; 8410-01-683-1987—Size 6-M-P; 8410-01-683-1988—Size 6-M-R; 8410-01-683-1990—Size 6-M-T; 8410-01-683-2062—Size 6-W-P; 8410-01-683-2064—Size 6-W-R; 8410-01-683-2076—Size 6-W-T; 8410-01-683-1947—Size 8-JR-P; 8410-01-683-1991—Size 8-M-P; 8410-01-683-1993—Size 8-M-R; 8410-01-683-1994—Size 8-M-T; 8410-01-683-2082—Size 8-W-P; 8410-01-683-2078—Size 8-W-R; 8410-01-683-2098—Size 8-W-T

Mandatory Source of Supply: Puerto Rico Industries for the Blind, Corp., Mayaguez, PR

Contracting Activity: DEPT OF THE ARMY, W6QK ACC-APG NATICK

Michael R. Jurkowski,
Deputy Director, Business Operations.

[FR Doc. 2020-23519 Filed 10-22-20; 8:45 am]

BILLING CODE 6353-01-P